DEPARTMENT OF DEFENSE

Office of the Secretary

[Transmittal No. 22-49]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-49 with attached Policy Justification and Sensitivity of Technology.

Dated: June 10, 2024.
Aaron T. Siegel,
Alternate OSD Federal Register Liaison Officer, Department of Defense.

BILLING CODE 6001-FR-P

BILLING CODE 6001-FR-C

Transmittal No. 22-49

Notice of Proposed Issuance of Letter of Offer Pursuant to Section 36(b)(1) of the Arms Export Control Act, as amended

(i) Prospective Purchaser: Government of Australia

(ii) Total Estimated Value:

Major Defense Equipment * | $157 million
Other | $ 78 million
TOTAL | $235 million

(iii) Description and Quantity or Quantities of Articles or Services under Consideration for Purchase:

Major Defense Equipment (MDE):

Eighty (80) Joint Air-to-Surface Standoff Missiles—Extended Range (JASSM-ER) (AGM-158B with telemetry kits and/or AGM-158B-2 configurations)

Non-MDE:

Also included are missile containers and support equipment; JASSM training missiles; weapon system support; spare parts, consumables, accessories, and repair/return support; integration and test support and equipment; personnel training; software delivery and support; classified and unclassified publications and technical documentation; transportation; U.S. Government and contractor engineering, technical and logistics support services, studies and surveys; and other related elements of logistical and program support.

(iv) Military Department: Air Force (AT-D-YAK)

(v) Prior Related Cases, if any: AT-D-QAR

(vi) Sales Commission, Fee, etc., Paid, Offered, or Agreed to be Paid: None known at this time

(vii) Sensitivity of Technology Contained in the Defense Article or Defense Services Proposed to be Sold: See Attached Annex

(viii) Date Report Delivered to Congress: July 21, 2022

* As defined in Section 47(6) of the Arms Export Control Act.

POLICY JUSTIFICATION

Australia—Joint Air-to-Surface Standoff Missiles—Extended Range (JASSM-ER)

The Government of Australia has requested to buy eighty (80) JASSM-ER (AGM-158B with telemetry kits and/or AGM-158B-2 configurations). Also included are missile containers and support equipment; JASSM training missiles; weapon system support; spare parts, consumables, accessories, and repair/return support; integration and test support and equipment; personnel training; software delivery and support; classified and unclassified publications and technical documentation; transportation; U.S. Government and contractor engineering, technical and logistics support services, studies and surveys; and other related elements of logistical and program support. The estimated total cost is $235 million.

This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

The proposed sale will improve Australia's capability to meet current and future threats by providing advanced, long-range strike systems for employment from Royal Australian Air Force air platforms including, but not limited to, the F/A-18F Super Hornet and F-35A Lightning II. Australia will have no difficulty absorbing this equipment into its armed forces.

The proposed sale of this equipment and support will not alter the basic military balance in the region.

The principal contractor will be Lockheed Martin, Orlando, FL. There are no known offset agreements proposed in connection with this potential sale.

Implementation of this proposed sale will not require the assignment of any additional U.S. Government or contractor representatives to Australia.

There will be no adverse impact on U.S. defense readiness as a result of this proposed sale.

Transmittal No. 22-49

Notice of Proposed Issuance of Letter of Offer Pursuant to Section 36(b)(1) of the Arms Export Control Act

Annex

Item No. vii

(vii) Sensitivity of Technology:

1. The AGM-158B/B-2 Joint Air-to-Surface Standoff Missiles (JASSM) with Extended Range (ER) are low-observable, highly-survivable, subsonic cruise missiles designed to penetrate next-generation air defense systems en-route to target. The JASSM-ER is designed to kill hard, medium-hardened, soft and area-type targets. A turbo-fan engine and reconfigured fuel tanks provide added capacity.

a. The AGM-158B-2 system capabilities include all the capabilities of the AGM-158B. The AGM-158B-2 configuration will have different internal components to address multiple obsolescence issues as well as subcomponent updates to position for M-Code and other potential upgrades.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Australia can provide substantially the same degree of protection for the sensitive technology being released as the U.S. Government. This sale is necessary in furtherance of the U.S. foreign policy and national security objectives outlined in the Policy Justification.

5. All defense articles and services listed in this transmittal have been authorized for release and export to the Government of Australia.

[FR Doc. 2024-12953 Filed 6-12-24; 8:45 am]

BILLING CODE 6001-FR-P